DEPARTMENT OF VETERANS AFFAIRS

[OMB Control No. 2900-0227]

Agency Information Collection: Emergency Submission for OMB Review; Comment Request

AGENCY: Veterans Health Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). An emergency clearance is being requested in response the Joint Commission on the Accreditation of Hospital Organizations (JCAHO) to adopt the Hospital Consumer Assessment of Health Plan Survey (HCAHPS) as a national standard survey for inpatients.

DATES: Comments must be submitted on or before August 10, 2004.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0227. Send comments and recommendations concerning any aspect of the information collection to VA's OMB Desk Officer, OMB Human Resources and Housing Branch, New Executive Office Building, Room 10235, Washington, DC 20503 (202) 395-7316 or FAX (202) 395-6974. Please refer to “2900-0227.

SUPPLEMENTARY INFORMATION: Title: Nation-wide Customer Satisfaction Survey, VA Forms 10-21075a through c (NR), 10-1465-1, 10-1465-3, 10-0142B, and 10-5387.

OMB Control Number: 2900-0227.

Type of Review: Revision of a currently approved collection.

Abstract: Joint Commission on the Accreditation of Hospital Organizations (JCAHO) to adopt the Hospital Consumer Assessment of Health Plan Survey (HCAHPS) as a national standard survey for inpatients. VA proposes a three-part piloting of the HCAPHS survey instrument to better understand how this questionnaire (either alone or combined with all or part of VHA's current inpatient questionnaire) and the HCAHPS sampling methods work in the population of veteran inpatients. The purpose of these patient satisfaction surveys is to determine how to improve services, customer satisfaction with existing services and how or if customer satisfaction has changed in response to reengineering efforts. The survey results will be used as a tool for assessing and improving the quality of services being provided to patients.

Affected Public: Individuals or households.

Estimated Total Annual Burden: 213,137 hours.

Estimated Average Burden Per Respondent: 23 minutes.

Frequency of Response: On occasion.

Estimated Number of Respondents: 557,040.

Dated: July 22, 2004.
By direction of the Secretary.
Loise Russell,
Director, Records Management Service.

[FR Doc. 04-17593 Filed 8-2-04; 8:45 am]

BILLING CODE 8320-01-P